DEPARTMENT OF TRANSPORTATION

Federal Aviation Administration

14 CFR Part 39

[Docket No. FAA-2006-24864; Directorate Identifier 2006-NM-072-AD; Amendment 39-14712; AD 2006-16-12]

RIN 2120-AA64

Airworthiness Directives; McDonnell Douglas Model DC-10-10, DC-10-10F, DC-10-30, DC-10-30F (KDC-10), DC-10-40, and DC-10-40F Airplanes

AGENCY: Federal Aviation Administration (FAA), Department of Transportation (DOT).

ACTION: Final rule.

SUMMARY: The FAA is adopting a new airworthiness directive (AD) for certain McDonnell Douglas airplanes, identified above. This AD requires reducing the length of the sump drain collar and replacing the fuel tank sump drain lockring for fuel tanks 1, 2, and 3; and reducing the length of the drain outlet barrel for the auxiliary fuel tank, if applicable. For airplanes with an auxiliary fuel tank, this AD also requires relocating the sump drain outlet to allow draining the sumps without opening the doors of the main landing gear wheel well. This AD results from fuel system reviews conducted by the manufacturer. We are issuing this AD to reduce the potential of ignition sources inside fuel tanks in the event of a lightning strike, which, in combination with flammable fuel vapors, could result in arcing in the fuel tank, fuel tank explosions, and consequent loss of the airplane.

DATES: This AD becomes effective September 13, 2006.

The Director of the Federal Register approved the incorporation by reference of certain publications listed in the AD as of September 13, 2006.

ADDRESSES: You may examine the AD docket on the Internet at http://dms.dot.gov or in person at the Docket Management Facility, U.S. Department of Transportation, 400 Seventh Street, SW., Nassif Building, Room PL-401, Washington, DC.

Contact Boeing Commercial Airplanes, Long Beach Division, 3855 Lakewood Boulevard, Long Beach, California 90846, Attention: Data and Service Management, Dept. C1-L5A (D800-0024), for service information identified in this AD.

FOR FURTHER INFORMATION CONTACT: Samuel Lee, Aerospace Engineer, Propulsion Branch, ANM-140L, FAA, Los Angeles Aircraft Certification Office, 3960 Paramount Boulevard, Lakewood, California 90712-4137; telephone (562) 627-5262; fax (562) 627-5210.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain McDonnell Douglas Model DC-10-10, DC-10-10F, DC-10-30, DC-10-30F (KDC-10), DC-10-40, and DC-10-40F airplanes. That NPRM was published in the Federal Register on May 25, 2006 (71 FR 30086). That NPRM proposed to require reducing the length of the sump drain collar and replacing the fuel tank sump drain lockring for fuel tanks 1, 2, and 3; and reducing the length of the drain outlet barrel for the auxiliary fuel tank, if applicable. For airplanes with an auxiliary fuel tank, that NPRM also proposed to require relocating the sump drain outlet to allow draining the sumps without opening the doors of the main landing gear wheel well.

Comments

We provided the public the opportunity to participate in the development of this AD. We have considered the two comments received. The commenters, FedEx and Biman Bangladesh Airlines, stated that their airplanes are not affected by the NPRM.

Conclusion

We have carefully reviewed the available data, including the comments received, and determined that air safety and the public interest require adopting the AD as proposed.

Costs of Compliance

There are about 135 airplanes of the affected design in the worldwide fleet. The following table provides the estimated costs for U.S. operators to comply with this AD. The labor rate is $80 per work hour.

Estimated Costs
Action | Work hours | Parts | Cost per airplane | Number of U.S.-registered airplanes | Fleet cost
For all airplanes: Reduce the length of the sump drain collar and replace the fuel tank sump drain for fuel tanks 1, 2, and 3 | 3 to 15 | $720 to $4,858 | $960 to $6,058 | 109 | $104,640 to $660,322.
For airplanes with an auxiliary fuel tank: Reduce the length of the drain outlet barrel for the auxiliary fuel tank | 6 to 15 | $0 to $720 | $480 to $1,920 | Up to 109 | $52,320 to $209,280.
Prior requirement for certain airplanes | 1 to 6 | The manufacturer states that it will supply required parts to the operators at no cost | $80 to $480 | Up to 109 | $8,720 to $52,320.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-16-12 McDonnell Douglas: Amendment 39-14712. Docket No. FAA-2006-24864; Directorate Identifier 2006-NM-072-AD.

Effective Date

(a) This AD becomes effective September 13, 2006.

Affected ADs

(b) None.

Applicability

(c) This AD applies to McDonnell Douglas Model DC-10-10, DC-10-10F, DC-10-30, DC-10-30F (KDC-10), DC-10-40, and DC-10-40F airplanes, certificated in any category; as identified in McDonnell Douglas DC-10 Service Bulletin 28-61, dated January 17, 1978.

Unsafe Condition

(d) This AD results from fuel system reviews conducted by the manufacturer. We are issuing this AD to reduce the potential of ignition sources inside fuel tanks in the event of a lightning strike, which, in combination with flammable fuel vapors, could result in arcing in the fuel tank, fuel tank explosions, and consequent loss of the airplane.

Compliance

(e) You are responsible for having the actions required by this AD performed within the compliance times specified, unless the actions have already been done.

Corrective Actions

(f) Within 60 months after the effective date of this AD: Reduce the length of the sump drain collar and replace the fuel tank sump drain lockring for fuel tanks 1, 2, and 3; and reduce the length of the drain outlet barrel for the auxiliary fuel tank, as applicable; by doing all the applicable actions in accordance with the Accomplishment Instructions of McDonnell Douglas DC-10 Service Bulletin 28-61, dated January 17, 1978.

Prior Requirement

(g) For airplanes identified as Group II airplanes in McDonnell Douglas DC-10 Service Bulletin 28-61, dated January 17, 1978, that are also contained in the effectivity of McDonnell Douglas DC-10 Service Bulletin 28-19, Revision 1, dated October 15, 1973: Before accomplishing the actions in paragraph (f) of this AD, relocate the sump drain outlet for the auxiliary tank in accordance with the Accomplishment Instructions of McDonnell Douglas DC-10 Service Bulletin 28-19, Revision 1, dated October 15, 1973.

Alternative Methods of Compliance (AMOCs)

(h)(1) The Manager, Los Angeles Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(i) You must use McDonnell Douglas DC-10 Service Bulletin 28-61, dated January 17, 1978; and McDonnell Douglas DC-10 Service Bulletin 28-19, Revision 1, dated October 15, 1973; as applicable, to perform the actions that are required by this AD, unless the AD specifies otherwise. The Director of the Federal Register approved the incorporation by reference of these documents in accordance with 5 U.S.C. 552(a) and 1 CFR part 51. Contact Boeing Commercial Airplanes, Long Beach Division, 3855 Lakewood Boulevard, Long Beach, California 90846, Attention: Data and Service Management, Dept. C1-L5A (D800-0024), for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on July 31, 2006.
Ali Bahrami,
Manager, Transport Airplane Directorate, Aircraft Certification Service.

[FR Doc. E6-12827 Filed 8-8-06; 8:45 am]

BILLING CODE 4910-13-P